NATIONAL COUNCIL ON DISABILITY

Sunshine Act Meetings

TIME AND DATE: The Members of the National Council on Disability (NCD) will hold a quarterly business meeting on Thursday, May 9, 2024, 1:00 p.m.-5:00 p.m., eastern daylight time (EDT).

PLACE: This meeting will occur via Zoom videoconference. Registration is required. Interested parties are encouraged to join the meeting in an attendee status by Zoom Desktop Client, Mobile App, or Telephone to dial-in. Updated information is available on NCD's event page at https://www.ncd.gov/meeting/2024-05-09-may-9-2024-council-meeting/. To register for the Zoom webinar, please use the following URL: https://www.zoomgov.com/webinar/register/WN_C-wldbB6SKedo9Ap4o6k-Q#/registration.

In the event of audio disruption or failure, attendees can follow the meeting by accessing the Communication Access Realtime Translation (CART) link provided. CART is text-only translation that occurs real time and is not an exact transcript.

MATTERS TO BE CONSIDERED: Following welcome remarks and introductions, the Executive Committee will provide their report; followed by the Chair's report; policy updates; a break; followed by policy proposals for fiscal year 2025; a presentation by the Intertribal Disability Advisory Council (IDAC) on living with a disability on tribal lands, followed by Council member Q&A; a public comment session focused on public facilities and public transportation; and Council Member training on National Archives and Records Administration (NARA) requirements; then adjournment.

Agenda: The times provided below are approximations for when each agenda item is anticipated to be discussed (all times eastern daylight time):

Thursday, May 9, 2024

1:00-1:10 p.m.—Welcome and Call to Order

1:10-1:25 p.m.—Executive Committee Reports

1:25-1:35 p.m.—Chair's Report

1:35-2:05 p.m.—Policy Updates

2:05-2:15 p.m.—BREAK

2:15-3:15 p.m.—FY2025 Policy Proposals

3:15-4:00 p.m.—Presentation by Intertribal Disability Advisory Council (IDAC): Living with a disability on tribal lands, and Council member Q&A

4:00-4:30 p.m.—Public comment on public facilities, public transportation

4:30-5:00 p.m.—NARA training for Council members

5:30 p.m.—Adjournment

Public Comment: Your participation during the public comment period provides an opportunity for us to hear from you—individuals, businesses, providers, educators, parents and advocates. Your comments are important in bringing to the Council's attention and issues and priorities of the disability community.

For the May 9 Council meeting, NCD will have a public comment session to receive input on experiences with public facilities and public transportation. Additional information on specifics of the topic and guidelines are available on NCD's public comment page at https://www.ncd.gov/public-comment/.

Please share your experiences and/or knowledge on the accessibility of municipal/county or private recreation facilities regarding: buildings (accessibility of buildings, locker rooms, weight rooms, exercise areas); fitness equipment (exercise machines, weight machines); exercise classes (integrated classes, modifications); swimming facilities (pool lifts, entry ramps); and other accessibility comments on private or federally financed recreation facilities. NCD also continues to seek public comment on ground transportation. Please provide comments about: the accessibility of rental cars (reservations, hand-controls, cars available for rental); and the accessibility of hotel shuttles or other public shuttles.

Because of the virtual format, the Council will receive public comment by email or by video or audio over Zoom. To provide public comment during an NCD Council Meeting, NCD now requires advanced registration by sending send an email to PublicComment@ncd.gov with the subject line “Public Comment” and your name, organization, state, and topic of comment included in the body of your email. Deadline for registration is May 8, 8:00 p.m. EDT.

While public comment can be submitted on any topic over email, comments during the meeting should be specific to ground transportation experiences, as the input is needed for an upcoming report.

If any time remains following the conclusion of the comments of those registered, NCD may call upon those who desire to make comments but did not register.

CONTACT PERSON FOR MORE INFORMATION: Nicholas Sabula, Public Affairs Specialist, NCD, 1331 F Street NW, Suite 850, Washington, DC 20004; 202-272-2004 (V), or nsabula@ncd.gov.

Accommodations: An ASL interpreter will be on-camera during the entire meeting, and CART has been arranged for this meeting and will be embedded into the Zoom platform as well as available via streamtext link. The web link to access CART (in English) is: https://www.streamtext.net/player?event=NCD.

If you require additional accommodations, please notify Stacey Brown by sending an email to sbrown@ncd.gov as soon as possible, no later than 24 hours before the meeting.

Due to last-minute confirmations or cancellations, NCD may substitute items without advance public notice.

Dated: April 17, 2024.
Anne C. Sommers McIntosh,
Executive Director.

[FR Doc. 2024-08581 Filed 4-17-24; 4:15 pm]

BILLING CODE 8421-02-P